ENVIRONMENTAL PROTECTION AGENCY

[ER-FRL-9022-5]

Environmental Impact Statements; Notice of Availability

Responsible Agency: Office of Federal Activities, General Information (202) 564-7146 or http://www2.epa.gov/nepa.

Weekly receipt of Environmental Impact Statements

Filed 08/10/2015 Through 08/14/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150225, Final, FRA, FL, All Aboard Florida Intercity Passenger Rail Project, Orlando to Miami, Florida, Review Period Ends: 09/23/2015, Contact: John Winkle 202-493-6067.

EIS No. 20150226, Final, USFS, MT, Divide Travel Plan, Review Period Ends: 09/23/2015, Contact: Erin Fryer 406-495-3863.

EIS No. 20150227, Final, USFWS, CO, San Luis Valley National Wildlife Refuge Complex, Review Period Ends: 09/23/2015, Contact: Laurie Shannon 303-236-4317.

EIS No. 20150228, Draft Supplement, GSA, VA, The Federal Bureau of Investigation Central Records Complex, Comment Period Ends: 10/08/2015, Contact: Courtenay Hoernemann 215-446-4710.

EIS No. 20150229, Final, USFS, MT, Stonewall Vegetation Project, Review Period Ends: 09/23/2015, Contact: David Shanley-Dillman 406-731-5329.

EIS No. 20150230, Draft, BLM, NV, Coeur Rochester Mine Plan of Operations Amendment 10 Project (POA10), Comment Period Ends: 10/08/2015, Contact: Kathleen Rehberg 775-623-1500.

EIS No. 20150231, Draft, USACE, CT, Programmatic—Long Island Sound Dredged Material Management Plan, Comment Period Ends: 10/08/2015, Contact: Meghan Quinn 978-318-8179.

EIS No. 20150232, Draft, APHIS, PRO, Programmatic—Carcass Management During a Mass Animal Health Emergency, Comment Period Ends: 10/20/2015, Contact: Samantha Floyd 301-851-3053.

EIS No. 20150233, Final, FERC, LA, Lake Charles Liquefaction Project, Review Period Ends: 09/23/2015, Contact: Shannon Crosley 202-502-8853.

EIS No. 20150234, Draft, BLM, UT, Moab Master Leasing Plan and Draft Resource Management Plan Amendments, Comment Period Ends: 11/19/2015, Contact: Brent Northrup 435-259-2151.

EIS No. 20150235, Final, USFS, CO, Chimney Rock National Monument Management Plan, Review Period Ends: 10/19/2015, Contact: Sara Brinton 970-264-1532.

EIS No. 20150236, Draft Supplement, Caltrans, CA, State Route 79 Realignment Project: Domenigoni Parkway to Gilman Springs Road, Comment Period Ends: 10/08/2015, Contact: Aaron Burton 909-383-2841.

Draft Supplement, NRC, NV, Supplement to the U.S. Department of Energy's Environmental Impact Statement for a Geologic Repository for the Disposal of Spent Nuclear Fuel and High-Level Radioactive Waste at Yucca Mountain, Nye County, Nevada,Draft Report for Comment (NUREG-2184), Comment Period Ends: 10/20/2015, Contact: Christine Pineda 301-415-6789. Prepared in accordance with NWPA § 114 and 10 CFR 51.109, which describe the NRC's NEPA process for its review of the proposed geologic repository at Yucca Mountain, Nevada.

Amended Notices

EIS No. 20150088, Draft, USMC, Other, Commonwealth of the Northern Mariana Islands (CJMT) Joint Military Training, Comment Period Ends: 10/01/2015, Contact: Lori Robertson 808-472-1409. Revision to FR Notice Published 07/31/2015; Extending the Comment Period from 08/17/2015 to 10/01/2015.

Dated: August 18, 2015.
Dawn Roberts,
Management Analyst, NEPA Compliance Division, Office of Federal Activities.

[FR Doc. 2015-20728 Filed 8-21-15; 8:45 am]

BILLING CODE 6560-50-P